DEPARTMENT OF COMMERCE

National Oceanic and Atmospheric Administration

RIN 0648-XD002

Marine Mammals; File No. 18182

AGENCY: National Marine Fisheries Service (NMFS), National Oceanic and Atmospheric Administration (NOAA), Commerce.

ACTION: Notice; receipt of application.

SUMMARY: Notice is hereby given that Marilyn Mazzoil, Harbor Branch Oceanographic Institute at Florida Atlantic University, 5600 US 1 North, Fort Pierce, Florida 34946, has applied in due form for a permit to conduct scientific research on bottlenose dolphins (Tursiops truncatus).

DATES: Written, telefaxed, or email comments must be received on or before December 27, 2013.

ADDRESSES: The application and related documents are available for review by selecting “Records Open for Public Comment” from the Features box on the Applications and Permits for Protected Species (APPS) home page, https://apps.nmfs.noaa.gov, and then selecting File No. 18182 from the list of available applications.

These documents are also available upon written request or by appointment in the following offices:

Permits and Conservation Division, Office of Protected Resources, NMFS, 1315 East-West Highway, Room 13705, Silver Spring, MD 20910; phone (301)427-8401; fax (301)713-0376; and

Southeast Region, NMFS, 263 13th Avenue South, Saint Petersburg, FL 33701; phone (727)824-5312; fax (727)824-5309.

Written comments on this application should be submitted to the Chief, Permits and Conservation Division, at the address listed above. Comments may also be submitted by facsimile to (301)713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Carrie Hubard or Amy Hapeman, (301)427-8401.

SUPPLEMENTARY INFORMATION: The subject permit is requested under the authority of the Marine Mammal Protection Act of 1972, as amended (MMPA; 16 U.S.C. 1361 et seq.) and the regulations governing the taking and importing of marine mammals (50 CFR part 216).

The applicant requests a permit to study bottlenose dolphins along the east coast of Florida, from Fernandina Beach to Jupiter. Dolphins would be photo-identified and biopsy sampled to study and determine: (1) Abundance estimation; (2) occurrence and distribution; (3) behavioral information; and (4) population structure and life history parameters. Vessel surveys would be conducted year-round. Annually, the applicant expects to encounter 10,000 animals from the Indian River Lagoon Estuarine System (IRLES) stock, 4000 from the Jacksonville Estuarine System (JES) stock, 12,000 from the Western North Atlantic Central Florida Coastal (WNACFC) stock, and 6000 from the Western North Atlantic Northern Florida Coastal (WNANFC) stock. Individual animals would likely be observed and photographed multiple times per year. A maximum of 350 biopsy samples could be collected annually (100 IRLES, 50 JES, 100 WNACFC, 100 WNANFC). Up to 20 animals from the IRLES stock may be sampled twice in the same year to examine seasonal changes in contaminant loads. Animals determined to be less than two years of age would not be sampled. The permit would be valid for five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: November 22, 2013.
P. Michael Payne,
Chief, Permits and Conservation Division, Office of Protected Resources, National Marine Fisheries Service.

[FR Doc. 2013-28437 Filed 11-26-13; 8:45 am]

BILLING CODE 3510-22-P